DEPARTMENT OF TRANSPORTATION

Federal Highway Administration

Notice of Final Federal Agency Actions on the Madawaska International Bridge Project Connecting Madawaska, Maine, USA and Edmundston, New Brunswick, Canada

AGENCY: Federal Highway Administration (FHWA), DOT.

ACTION: Notice of Limitation on Claims for Judicial Review of Action by FHWA.

SUMMARY: This notice announces an action taken by FHWA and other Federal agencies that are final. The actions relate to the Madawaska International Bridge connecting Madawaska, Aroostook County, Maine and Edmundston, New Brunswick.

DATES: By this notice, FHWA is advising the public of final agency actions subject to 23 U.S.C. 139(l)(1). A claim seeking judicial review of the Federal agency actions on the highway project will be barred unless the claim is filed on or before September 21, 2020. If the Federal law that authorizes judicial review of a claim provides a time period of less than 150 days for filing such claim, then that shorter time period still applies.

FOR FURTHER INFORMATION CONTACT: Todd D. Jorgensen, Division Administrator, Federal Highway Administration, Edmund S. Muskie Federal Building, 40 Western Avenue, Room 614, Augusta, ME 04330, Telephone (207) 512-4911; or Kristen Chamberlain, Coordination, Assessments, & Permits Division Manager, Maine Department of Transportation, Child Street, 16 State House Station, Augusta, ME 04333, Telephone (207) 557-5089.

SUPPLEMENTARY INFORMATION: Notice is hereby given that FHWA and other Federal agencies have taken final agency actions by issuing licenses, permits, and approvals for the following highway project in the State of Maine: International Bridge Project (Bridge #2399), which crosses the Saint John River. The project proposes to replace the International Bridge, which connects Madawaska in Aroostook County, Maine, USA and Edmundston, New Brunswick, Canada. The proposed action (Bridge Alternative 2) would include the construction of a new steel girder bridge approximately 1,840 feet in length with six spans. Of the five piers needed, one will be near the top of the riverbank in Madawaska, three piers will be in the river, and one will be near the bottom of the riverbank in Edmundston. The new International Bridge will connect the new Madawaska Land Port of Entry (LPOE) to the existing Edmundston Port of Entry. The existing bridge will be removed. The actions by the Federal agencies, and the laws under which such actions were taken, are described in the Supplemental Final Environmental Impact Statement/Final Programmatic Section 4(f) Evaluation for the new United States LPOE and International Bridge which was noticed in the Federal Register on October 4, 2019, in the Record of Decision (ROD) approved on February 12, 2020, and in other documents in the administrative record. The Supplemental Final Environmental Impact Statement/Final Programmatic Section 4(f) Evaluation, ROD, and other documents in the FHWA project file are available by contacting FHWA or the MaineDOT at the addresses provided above. The Supplemental Final Environmental Impact Statement/Final Programmatic Section 4(f) Evaluation and ROD can be viewed and downloaded from the project website at: https://www.maine.gov/mdot/projects/madawaska/internationalbrg/.

This notice applies to all Federal agency decisions as of the issuance date of this notice and all laws under which such actions were taken, including but not limited to:

1. General: National Environmental Policy Act (NEPA) [42 U.S.C. 4321-4351]; Federal-Aid Highway Act [23 U.S.C. 109, 23 U.S.C. 128].

2. Air: Clean Air Act, [42 U.S.C. 7401-7671(q)] (Transportation Conformity).

3. Land: Section 4(f) of the Department of Transportation Act of 1966 [49 U.S.C. 303].

4. Wildlife: Endangered Species Act [16 U.S.C. 153 1-1544 and Section 1536], Fish and Wildlife Coordination Act [16 U.S.C. 661-667(d)], Migratory Bird Treaty Act [16 U.S.C. 703-712], Marine Mammal Protection Act [16 U.S.C. 1361], Magnuson-Stevens Fishery Conservation and Management Act of 1976, as amended [16 U.S.C. 1801 et seq.].

5. Historic and Cultural Resources: Section 106 of the National Historic Preservation Act of 1966, as amended [54 U.S.C. 306108 et seq.].

6. Social and Economic: Civil Rights Act of 1964 [42 U.S.C. 2000(d)-2000(d)(I)].

7. Water Resources: Coastal Zone Management Act, 16 U.S.C. 1451-1465.

8. Executive Orders: E.O. 11990 Protection of Wetlands; E.O. 11988 Floodplain Management; E.O. 12898, Federal Actions to Address Environmental Justice in Minority Populations and Low-Income Populations; E.O. 13175 Consultation and Coordination with Indian Tribal Governments.

(Catalog of Federal Domestic Assistance Program Number 20.205, Highway Planning and Construction. The regulations implementing Executive Order 12372 regarding intergovernmental consultation on Federal programs and activities apply to this program.

Authority: 23 U.S.C. 139(1)(1), as amended by Moving Ahead for Progress in the 21st Century Act, (PL 112-141, 126 Stat. 405).

Issued on: April 14, 2020.
Todd D. Jorgensen,
Division Administrator Augusta, Maine.

[FR Doc. 2020-08221 Filed 4-23-20; 8:45 am]

BILLING CODE 4910-RY-P